DEPARTMENT OF EDUCATION

Privacy Act of 1974; System of Records

AGENCY: Office of the Under Secretary, Department of Education.

ACTION: Notice of deletion of an existing system of records.

SUMMARY: In accordance with the Privacy Act of 1974, as amended (Privacy Act) (5 U.S.C. 552a), the Department of Education (Department) deletes one system of records from its existing inventory of systems of records subject to the Privacy Act.

DATES: This deletion is effective October 5, 2016.

FOR FURTHER INFORMATION CONTACT: Mr. Emmanuel Caudillo, Senior Advisor, White House Initiative on Educational Excellence for Hispanics, Office of the Under Secretary, U.S. Department of Education, 400 Maryland Avenue SW., Washington, DC 20202. Telephone: (202) 453-5529.

If you use a telecommunications device for the deaf (TDD) or a text telephone (TTY), call the Federal Relay Service (FRS), toll free, at 1-800-877-8339.

Individuals with disabilities may obtain this document in an accessible format (e.g., braille, large print, audiotape, or compact disc) on request to the contact person listed in this section.

SUPPLEMENTARY INFORMATION: The Department deletes one system of records from its inventory of record systems subject to the Privacy Act. The deletion is not within the purview of subsection (r) of the Privacy Act, which requires submission of a report on a new or altered system of records.

The system of records notice is no longer needed because the Partners in Education program ended during the Presidential Administration transition in 2009. The White House Initiative on Educational Excellence for Hispanics, currently housed in the Office of the Under Secretary, no longer uses or maintains this system of records. Furthermore, the system of records is no longer in existence; therefore, the following system of records notice is deleted:

1. Partners in Education (18-06-05), 67 FR 4642 (January 30, 2002).

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 30, 2016.
Ted Mitchell,
Under Secretary of Education.

For the reasons discussed in the preamble, the Under Secretary of Education deletes the following system of records:

SYSTEM NUMBER:

18-06-05.

SYSTEM NAME:

Partners in Education.

[FR Doc. 2016-24141 Filed 10-4-16; 8:45 am]

BILLING CODE 4000-01-P